ENVIRONMENTAL PROTECTION AGENCY

[EPA-HQ-OAR-2003-0041; FRL-10002-20-OMS]

Information Collection Request Submitted to OMB for Review and Approval; Comment Request; RadNet (Renewal)

AGENCY: Environmental Protection Agency (EPA).

ACTION: Notice.

SUMMARY: The Environmental Protection Agency (EPA) has submitted an information collection request (ICR), RadNet (EPA ICR Number 0877.14, OMB Control Number 2060-0015) to the Office of Management and Budget (OMB) for review and approval in accordance with the Paperwork Reduction Act. This is a proposed extension of the ICR, which is currently approved through January 31, 2020. Public comments were previously requested via the Federal Register on May 13, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 27, 2019.

ADDRESSES: Submit your comments, referencing Docket ID No. EPA-HQ-OAR-2003-0041, to (1) EPA online using www.regulations.gov (our preferred method), a-and-r-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: John Griggs, OAR/ORIA/NAREL, 540 South Morris Ave., Montgomery, AL 36115; telephone number: (334) 270-3400; fax number: (334) 270-3454; email address: Griggs.john@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: RadNet is a national network of stations collecting sampling media that include air, precipitation, and drinking water. Samples are sent to EPA's National Analytical Radiation Environmental Lab (NAREL) in Montgomery, Alabama, where they are analyzed for radioactivity. RadNet provides emergency response/homeland security and ambient monitoring information on levels of environmental radiation across the nation. All stations, usually operated by state and local personnel, participate in RadNet voluntarily. Station operators complete information forms that accompany the samples. The forms request information pertaining to sample type, sample location, start and stop date and times for sampling, length of sampling period, and volume represented. Data from RadNet are made available regularly on the Agency website— https://www.epa.gov/radnet.

Form Numbers: 5900-23, 5900-24, 5900-27, 5900-29.

Respondents/affected entities: Primarily State and Local Officials.

Respondent's obligation to respond: Voluntary.

Estimated number of respondents: 237 (total).

Frequency of response: Biweekly, monthly, quarterly.

Total estimated burden: 3,722 hours (per year). Burden is defined at 5 CFR 1320.03(b).

Total estimated cost: $2,510,235 (per year), includes $2,363,476 annualized capital or operation & maintenance costs.

Changes in the Estimates: There is a decrease of 5 hours in the total estimated respondent burden compared with the ICR currently approved by OMB. This decrease shows the program is in maturity and is expected to operate with minimal change.

Courtney Kerwin,
Director, Collection Strategies Division.

[FR Doc. 2019-25763 Filed 11-26-19; 8:45 am]

BILLING CODE 6560-50-P